DEPARTMENT OF DEFENSE

Office of the Secretary

[Transmittal No. 25-85]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-85, Policy Justification, and Sensitivity of Technology.

Dated: January 26, 2026.
Stephanie J. Bost,
Alternate OSD Federal Register Liaison Officer, Department of Defense.

BILLING CODE 6001-FR-P

BILLING CODE 6001-FR-C

Transmittal No. 25-85

Notice of Proposed Issuance of Letter of Offer Pursuant to Section 36(b)(1) of the Arms Export Control Act, as amended

(i) Prospective Purchaser: Government of Japan

(ii) Total Estimated Value:

Major Defense Equipment * | $30 million
Other | $52 million
TOTAL | $82 million

(iii) Description and Quantity or Quantities of Articles or Services under Consideration for Purchase: Foreign Military Sales (FMS) case JA-D-AAQ was below congressional notification threshold at $81.04 million ($14.81 million in major defense equipment (MDE)). The Government of Japan has requested that the case be amended to include twenty-eight (28) GBU-53 Small Diameter Bombs-Increment II (SDB-II) all-up-rounds (AURs). This amendment will cause the case to exceed the notification threshold, and thus notification of the entire program is required. The above notification requirements are combined as follows:

Major Defense Equipment (MDE):

One-hundred-twenty (120) GBU-39 Small Diameter Bomb-Increment I (SDB-I) all-up-rounds (AURs)

Twenty-eight (28) GBU-53 SDB-IIs (AURs)

Thirty (30) KMU-556 Joint Direct Attack Munition (JDAM) tail kits for GBU-31

Twenty (20) KMU-559 JDAM tail kits for GBU-32

Twenty-four (24) KMU-572 JDAM tail kits for GBU-38

Twenty-four (24) MK-82 500 lb general purpose bombs

Thirty (30) MK-84 2,000 lb general purpose bombs

Twenty-one (21) BLU-110 1,000 lb general purpose bombs

Non-Major Defense Equipment:

The following non-MDE will also be included: FMU-139 joint programmable fuzes; DSU-38 laser sensors; practice bombs and bomb components; weapons and weapon support equipment; major modifications and maintenance support; training aids, devices, and spare parts; spare and repair parts, consumables, accessories, and repair and return support; classified software delivery and support; classified publications and technical documentation; transportation support; studies and surveys; United States (U.S.) Government and contractor engineering, technical, and logistics support services; and other related elements of logistics and program support.

(iv) Military Department: Air Force (JA-D-AAQ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: November 19, 2025

* as defined in Section 47(6) of the Arms Export Control Act.

POLICY JUSTIFICATION

Japan—Munitions

The Government of Japan has requested to buy twenty-eight (28) GBU-53 Small Diameter Bombs-Increment II (SDB-II) all-up-rounds (AURs) that will be added to a previously implemented case whose value was under the congressional notification threshold. The original Foreign Military Sales case was valued at $81.04 million ($14.81 million in major defense equipment (MDE)). This notification is for a combined total of one-hundred-twenty (120) GBU-39 Small Diameter Bombs-Increment I (SDB-I); twenty-eight (28) GBU-53 SDB-IIs (AURs); thirty (30) KMU-556 Joint Direct Attack Munition (JDAM) tail kits for GBU-31; twenty (20) KMU-559 JDAM tail kits for GBU-32; twenty-four (24) KMU-572 JDAM tail kits for GBU-38; twenty-four (24) MK-82 500 lb general purpose (GP) bombs; thirty (30) MK-84 2,000 lb GP bombs; and twenty-one (21) BLU-110 1,000 lb GP bombs. The following non-MDE will also be included: FMU-139 joint programmable fuzes; DSU-38 laser sensors; practice bombs and bomb components; weapons and weapon support equipment; major modifications and maintenance support; training aids, devices, and spare parts; spare and repair parts, consumables, accessories, and repair and return support; classified software delivery and support; classified publications and technical documentation; transportation support; studies and surveys; U.S. Government and contractor engineering, technical, and logistics support services; and other related elements of logistics and program support. The estimated total cost is $82 million.

This proposed sale will support the foreign policy goals and national security objectives of the U.S. by improving the security of a major ally that is a force for political stability and economic progress in the Indo-Pacific region.

The proposed sale will improve Japan's capability to meet current and future threats by providing stand-off capability via advanced, long-range strike systems for employment on Japan Air Self-Defense Force fighter aircraft. Japan will have no difficulty absorbing these articles and services into its armed forces.

The proposed sale of this equipment and support will not alter the basic military balance in the region.

The principal contractors will be The Boeing Company, located in Arlington, VA; and RTX Corporation, located in Arlington, VA. At this time, the U.S. Government is not aware of any offset agreement proposed in connection with this potential sale. Any offset agreement will be defined in negotiations between the purchaser and the contractor.

Implementation of this proposed sale will not require the assignment of any additional U.S. Government or contractor representatives to Japan.

There will be no adverse impact on U.S. defense readiness as a result of this proposed sale.

Transmittal No. 25-85

Notice of Proposed Issuance of Letter of Offer Pursuant to Section 36(b)(1) of the Arms Export Control Act

Annex

Item No. vii

(vii) Sensitivity of Technology:

1. The GBU-39 Small Diameter Bomb-Increment I (SDB-I) all-up-round (AUR) is a 250 lb bomb with a GPS-aided inertial navigation system. It is a small, autonomous, day or night and adverse weather, conventional, air-to-ground precision glide weapon able to strike fixed and stationary re-locatable non-hardened targets from standoff ranges. It is intended to provide aircraft with an ability to carry a high number of bombs because aircraft are able to carry four SDBs in place of one 2,000-lb bomb.

2. The GBU-53 Small Diameter Bomb-Increment II (SDB-II) AUR is a 250 lb air-to-ground munition with precision-guided and semiautonomous capabilities used to defeat targets in adverse weather. The SDB-II has deployable wings and fins and uses Global Positioning System/Inertial Navigation System (GPS/INS) guidance, network-enabled datalink (Link-16 and ultra-high frequency datalink), and a multi-mode seeker to autonomously search, acquire, track, and defeat a variety of moving or stationary targets at standoff range in a variety of attack modes. The SDB-II employs a multi-effects warhead (blast, fragmentation, and shaped-charge) for maximum lethality against armored and soft targets. The SDB-II weapon system consists of the tactical AUR weapon, a 4-place common carriage system, and a mission planning system munitions application program.

3. Joint Direct-Attack Munitions (JDAMs) consist of a bomb body paired with a warhead-specific tail kit containing a GPS/INS guidance capability that converts unguided free-fall bombs into accurate, adverse weather smart munitions. The JDAM weapon can be delivered from modest standoff ranges at high or low altitudes against a variety of land and surface targets during the day or night. JDAMs can receive target coordinates via preplanned mission data from the delivery aircraft, by onboard aircraft sensors during captive carry, or from a third-party source via manual or automated aircrew cockpit entry.

a. The GBU-31 is a 2,000 lb JDAM, consisting of a KMU-556 tail kit and BLU-117 or MK-84 bomb body;

b. The GBU-32 is a 1,000 lb JDAM consisting of a KMU-559 tail kit and BLU-110 or MK-83 bomb body;

c. The GBU-38 is a 500 lb JDAM, consisting of a KMU-572 tail kit and BLU-111 or MK-82 bomb body.

4. The MK-82 general purpose (GP) bomb is a 500 lb, free-fall, unguided, low-drag weapon. The MK-82 is designed for soft, fragment-sensitive targets and is not intended for hard targets or penetrations. The explosive filling is usually tritonal, though other compositions have sometimes been used.

5. The MK-84 general purpose (GP) bomb is a 2,000 lb, free-fall, unguided, low-drag weapon. The MK-84 is designed for soft, fragment-sensitive targets and is not intended for hard targets or penetrations. The explosive filling is usually tritonal, though other compositions have sometimes been used.

6. The FMU-139 joint programmable fuze (JPF) is a multi-delay, multi-arm, and proximity sensor compatible with general purpose blast, frag, and hardened-target penetrator weapons. The JPF settings are cockpit-selectable in flight.

7. The highest level of classification of defense articles, components, and services included in this potential sale is SECRET.

8. If a technologically advanced adversary were to obtain knowledge of the specific hardware and software elements, the information could be used to develop countermeasures that might reduce system effectiveness or be used in the development of a system with similar or advanced capabilities.

9. A determination has been made that Japan can provide substantially the same degree of protection for the sensitive technology being released as the U.S. Government. This sale is necessary in furtherance of the U.S. foreign policy and national security objectives outlined in the Policy Justification.

10. All defense articles and services listed in this transmittal have been authorized for release and export to the Government of Japan.

[FR Doc. 2026-01721 Filed 1-28-26; 8:45 am]

BILLING CODE 6001-FR-P